LEGAL SERVICES CORPORATION

Notice to LSC Grantees of Application Process for Subgranting Special Grant Funds

AGENCY: Legal Services Corporation.

ACTION: Notice of application dates and format for applications to make subgrants of LSC Special Grant Funds, including Technology Initiative Grant, Pro Bono Innovation Fund, and Disaster Relief Grant funds.

SUMMARY: The Legal Services Corporation (LSC) is the national organization charged with administering Federal funds provided for civil legal services to low-income people. LSC hereby announces the submission dates for applications to make subgrants of its Special Grant funds. LSC is also providing information about where applicants may locate subgrant application questions and directions for providing the information required to apply for a subgrant.

DATES: See Supplementary Information section for application dates.

ADDRESSES: Legal Services Corporation—Office of Compliance and Enforcement, 3333 K Street NW, Third Floor, Washington, DC 20007-3522.

FOR FURTHER INFORMATION CONTACT: Megan Lacchini, Office of Compliance and Enforcement at lacchinim@lsc.gov or (202) 295-1506, or visit the LSC website at http://www.lsc.gov/grants-grantee-resources/grantee-guidance/how-apply-subgrant.

SUPPLEMENTARY INFORMATION: Under 45 CFR part 1627, LSC must publish, on an annual basis, “notice of the requirements concerning the format and contents of the application annually in the Federal Register and on LSC's website.” 45 CFR 1627.4(b). This Notice and the publication of the Subgrant Application on LSC's website satisfy § 1627.4(b)'s notice requirement for LSC Special Grant programs. Only current or prospective recipients of LSC Special Grants may apply for approval to subgrant these funds.

An applicant must submit an application to make a subgrant of LSC Special Grant funds at least 45 days in advance of the subgrant's proposed effective date. 45 CFR 1627.4(b)(2).

All applicants must provide answers to the application questions in GrantEase and upload the following documents:

• A draft subgrant agreement (with the required terms provided in LSC's Special Grant Subgrant Agreement Template); and

• A subgrant budget (using LSC's Subgrant Budget Template)

Applicants seeking to subgrant to a new subrecipient that is not a current LSC grantee or applying to renew a subgrant with an organization that is not a current LSC grantee in a year in which the applicant was not already required to submit the documents listed below as a part of an application to subgrant LSC Basic Field funds, must also upload:

• The subrecipient's accounting manual;

• The subrecipient's most recent audited financial statements;

• The subrecipient's current cost allocation policy (if not in the accounting manual);

• The recipient's 45 CFR part 1627 policy (required under 45 CFR 1627.7).

A list of subgrant application questions, the Special Grant Subgrant Agreement Template, and the Subgrant Budget Template are available on LSC's website at http://www.lsc.gov/grants-grantee-resources/grantee-guidance/how-apply-subgrant.

LSC encourages applicants to use LSC's Special Grant Subgrant Agreement Template as a model subgrant agreement. If the applicant does not use LSC's Template, the proposed agreement must include, at a minimum, the substance of the provisions of the Template.

Once submitted, LSC will evaluate the application and provide applicants with instructions on any needed modifications to the submitted documents or Draft Agreement provided with the application. The applicant must then upload a final and signed subgrant agreement through GrantEase by the date requested.

As required by 45 CFR 1627.4(b)(3), LSC will inform applicants of its decision to disapprove, approve, or request modifications to the subgrant no later than the subgrant's proposed effective date.

(Authority: 42 U.S.C. 2996g(e))

Dated: June 8, 2022.
Stefanie Davis,
Senior Associate General Counsel.

[FR Doc. 2022-12738 Filed 6-13-22; 8:45 am]

BILLING CODE 7050-01-P